ENVIRONMENTAL PROTECTION AGENCY

[EPA-HQ-OAR-2020-0403; FRL-10018-71-OMS]

Information Collection Request; Comment Request; National Emission Standards for Hazardous Air Pollutants (NESHAP) for Radon Emissions From Operating Mill Tailings (Renewal)

AGENCY: Environmental Protection Agency (EPA).

ACTION: Notice.

SUMMARY: The Environmental Protection Agency (EPA) has submitted an information collection request (ICR), NESHAP for Radon Emissions from Operating Mill Tailings (EPA ICR Number 2464.03, OMB Control Number 2060-0706) to the Office of Management and Budget (OMB) for review and approval in accordance with the Paperwork Reduction Act. This is a proposed extension of the ICR, which is currently approved through December 31, 2020. Public comments were previously requested via the Federal Register on August 20, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before February 10, 2021.

ADDRESSES: Submit your comments to EPA, referencing Docket ID No. EPA-HQ-OAR-2020-0403, online using www.regulations.gov (our preferred method), by email to a-and-r-Docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Jonathan P. Walsh, Radiation Protection Division, Office of Radiation and Indoor Air, Mail Code 6608T, Environmental Protection Agency, 1200 Pennsylvania Ave. NW, Washington, DC 20460; telephone number: 202-343-9238; fax number: 202-343-2304; email address: walsh.jonathan@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: On January 17, 2017, EPA issued final revisions to the NESHAP for Radon Emissions from Operating Mill Tailings, codified at 40 CFR part 61, subpart W. These revisions were promulgated as part of a review of pre-1990 NESHAPs pursuant to Clean Air Act Section 112(q)(1). Included in the final revisions was a requirement that owners and operators of uranium recovery facilities maintain specific records pertaining to the design, construction and operation of the uranium tailings impoundments, both conventional and non-conventional, and heap leach piles. These records are to be retained at the facility and contain information regarding the approved design of the impoundments and/or heap leach pile, including but not limited to, all tests performed that prove the liner is compatible with the material(s) being placed on the liner. For non-conventional impoundments this requirement also includes written and digital photographic records showing compliance with the requirement to maintain liquid in the impoundment such that any solid materials in the impoundment are not visible above the liquid level. Both the retention of design documents required for all impoundments and the records generated during inspections to meet the liquid retention requirement for non-conventional impoundments were new requirements for collection of information that is not covered under the already existing ICR for radionuclide NESHAPs, EPA Number 1100.16, OMB Number 2060-0191.

Information collected is used by EPA to ensure that public health continues to be protected from the hazards of airborne radionuclides by compliance with these standards. Compliance is demonstrated through inspection. All facilities are required to maintain their records for the operational lifetime of the facility. In some cases, they also report their results to EPA.

Form Numbers: None.

Respondents/affected entities: The North American Industry Classification System (NAICS) codes of facilities associated with the activity of the respondents are: Uranium-Radium-Vanadium Ore Mining—212291.

Respondent's obligation to respond: Mandatory (CAA, Sec, 112; 40 CFR part 61).

Estimated number of respondents: 9 (total).

Frequency of response: Reporting (submission of digital photographs) at least monthly; more frequent or one-time collection of records, depending on activity.

Total estimated burden: 1,806 hours (per year). Burden is defined at 5 CFR 1320.03(b).

Total estimated cost: $115,812 (per year), includes $0 annualized capital or operation & maintenance costs.

Changes in the Estimates: There is a decrease of 5,347 hours in the total estimated respondent burden compared with the ICR currently approved by OMB. This decrease is mainly attributable to a reduction in the number of estimated respondents. The initial ICR identified a larger universe of respondents that could potentially be subject to the newly defined requirements, many of which were (and remain) in the process of licensing and development. It is estimated that no additional facilities will become subject to these requirements in the next few years. The Agency has also made a minor adjustment, based on consultations and public comments received, in the estimated number of hours to read and become familiar with the requirements resulting from the transition of the SWIPR system from a start-up to an operations-and-maintenance mode.

Courtney Kerwin,
Director, Regulatory Support Division.

[FR Doc. 2021-00242 Filed 1-8-21; 8:45 am]

BILLING CODE 6560-50-P